DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On September 16, 2021, OFAC determined that the property and interests in property subject to U.S. jurisdiction of the following persons are blocked under the relevant sanctions authority listed below.

Individuals

1. GURLEYEN, Soner, Istanbul, Turkey; DOB 06 Jun 1988; POB Gaziosmanpasha, Turkey; citizen Turkey; Gender Male; Identification Number 20768654918 (Turkey) (individual) [SDGT] (Linked To: AL QA'IDA).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-QA'IDA, a person whose property and interests in property are blocked pursuant to E.O. 13224.

2. GUZEL, Cebrail (a.k.a. GUZEL, Jebrail), Istanbul, Turkey; DOB 10 Jul 1993; POB Gerger, Adiyaman, Turkey; nationality Turkey; Gender Male; Identification Number 17011251840 (Turkey) (individual) [SDGT] (Linked To: AL QA'IDA).

Designated pursuant to section 1(a)(iii)(C) of E.O. 13224, as amended, for having materially assisted, sponsored, or provided financial, material, or technological support for, or goods or services to or in support of, AL-QA'IDA, a person whose property and interests in property are blocked pursuant to E.O. 13224.

3. MUSLIHAN, Nurettin, Istanbul, Turkey; DOB 20 May 1974; POB Gerger, Turkey; citizen Turkey; Gender Male; Identification Number 18931187806 (Turkey) (individual) [SDGT] (Linked To: AL QA'IDA).

Designated pursuant to section 1(a)(iii)(C) of E.O. 13224, as amended, for having materially assisted, sponsored, or provided financial, material, or technological support for, or goods or services to or in support of, AL-QA'IDA, a person whose property and interests in property are blocked pursuant to E.O. 13224.

4. SALIM, Majdi Muhammad Muhammad (a.k.a. SALIM, Majdi), Turkey; DOB 11 May 1956; alt. DOB 1958; POB Egypt; Gender Male (individual) [SDGT] (Linked To: AL QA'IDA).

Designated pursuant to section 1(a)(iii)(C) of E.O. 13224, as amended, for having materially assisted, sponsored, or provided financial, material, or technological support for, or goods or services to or in support of, AL-QA'IDA, a person whose property and interests in property are blocked pursuant to E.O. 13224.

5. AL-GHAZLANI, Muhammad Nasr al-Din, Turkey; DOB 06 Sep 1968; nationality Egypt; Gender Male (individual) [SDGT] (Linked To: AL QA'IDA).

Designated pursuant to section 1(a)(iii)(C) of E.O. 13224, as amended, for having materially assisted, sponsored, or provided financial, material, or technological support for, or goods or services to or in support of, AL-QA'IDA, a person whose property and interests in property are blocked pursuant to E.O. 13224.

Dated: September 16, 2021.
Bradley T. Smith,
Acting Director, Office of Foreign Assets Control, U.S. Department of the Treasury.

[FR Doc. 2021-20435 Filed 9-21-21; 8:45 am]

BILLING CODE 4810-AL-P